DEPARTMENT OF HOUSING AND URBAN DEVELOPMENT

[Docket No. FR-4912-N-12]

Notice of Finding of No Significant Impact for the Proposed Refinements to the World Trade Center Memorial and Redevelopment Plan in the Borough of Manhattan, City of New York, NY

AGENCY: Office of the Assistant Secretary for Community Planning and Development, HUD.

ACTION: Notice.

SUMMARY: HUD gives notice to the public, agencies, and Indian tribes that it has made a Finding of No Significant Impact (FONSI) for the Proposed Refinements to the World Trade Center Memorial and Redevelopment Plan (Proposed Refinements). This notice is given on behalf of the Lower Manhattan Development Corporation (LMDC). LMDC is a subsidiary of the Empire State Development Corporation (a political subdivision and public benefit corporation of the State of New York). As the recipient of HUD Community Development Block Grant funds appropriated for the World Trade Center disaster recovery and rebuilding efforts, LMDC acts, pursuant to 42 U.S.C. 5304(g), as the responsible entity for compliance with the National Environmental Policy Act (NEPA) in accordance with 24 CFR 58.4. LMDC also acts under its authority as lead agency in accordance with the New York State Environment Quality Review Act (SEQRA). The environmental assessment (EA) and FONSI have been prepared in cooperation with The Port Authority of New York and New Jersey (Port Authority). This notice is given in accordance with the Council on Environmental Quality regulations at 40 CFR parts 1500-1508.

DATES: Comment Due Date: All interested agencies, groups and persons may submit written comments for consideration at the following address: Lower Manhattan Development Corporation, Attention: Comments on WTC Plan EA, One Liberty Plaza, 20th Floor, New York, NY 10006. Comments must be received by 5 p.m. Eastern Daylight Time (EDT) on May 2, 2005. Comments received after 5 p.m. EDT on May 2, 2005, will not be considered. Comments may also be submitted until 5 p.m. EDT on May 2, 2005, by e-mailing comments to wtcenvironmental@renewnyc.com.

FOR FURTHER INFORMATION CONTACT: Further information and a copy of the EA and FONSI may be obtained by contacting: William H. Kelley, Planning Project Manager, Lower Manhattan Development Corporation, One Liberty Plaza, 20th floor, New York, NY 10006; Telephone: (212) 962-2300; Fax: (212) 962-2431; e-mail: wtcenvironmental@renewnyc.com. Further information and a copy of the EA and FONSI are also available on LMDC's Web site: http://www.renewnyc.com in the “Planning, Design & Development” section. A copy of the EA and FONSI is also available for public review at the following locations:

Chatham Square Library, 33 East Broadway, New York, NY 10007

Humanities and Social Sciences Library, 476 Fifth Avenue, New York, NY 10028

Hudson Park Library, 66 Leroy Street, New York, NY 10007

Manhattan Community Board 2, 3 Washington Square Park, New York, NY 10012

New Amsterdam Library, 9 Murray Street, New York, NY 10002

Hamilton Fish Library, 415 East Houston Street, New York, NY 10002

Manhattan Community Board 1, 49-51 Chambers Street, #715, New York, NY 10007

Manhattan Community Board 3, 59 East 4th Street, New York, NY 10003

SUPPLEMENTARY INFORMATION: LMDC, as lead agency, in cooperation with HUD and the Port Authority, released the Draft Generic Environmental Impact Statement on January 23, 2004 (69 FR 3382) and the Final Generic Environmental Impact Statement (FGEIS) on April 27, 2004 (69 FR 22866) for the World Trade Center Memorial and Redevelopment Plan (Approved Plan). On July 8, 2004 (69 FR 42178) LMDC published the Record of Decision and the Findings Statement for the Approved Plan and adopted the General Project Plan (GPP) for LMDC's World Trade Center Memorial and Cultural Program. Implementation of the Approved Plan began with the formal groundbreaking for Freedom Tower on July 4, 2004.

As implementation proceeded, LMDC, working in cooperation with HUD, the Port Authority, the City of New York, and Silverstein Properties, Inc. and its affiliates as the Port Authority's Net Lessees, has continued to develop the Approved Plan. Because the Approved Plan was generic, preliminary design and engineering led to certain adjustments and refinements based on aesthetics, commercial viability, cost, and practical considerations. Many of these refinements are described in the proposed GPP amendments preliminarily adopted by LMDC on December 16, 2004 (Proposed GPP Amendments). LMDC released the Proposed GPP Amendments for public review on December 27, 2004, and held a public hearing on the Proposed GPP Amendments on January 26, 2005, at St. John's University in Lower Manhattan to receive public comments. The public comment period remained open until March 10, 2005.

The Proposed Refinements would introduce several refinements to the physical forms and operational aspects of the Approved Plan, including the relocation of the entrance ramp for the underground vehicular network from the north side of Liberty Street adjacent to the World Trade Center (WTC) Memorial to the south side of Liberty Street, raising Liberty Park above grade by 20 to 30 feet to accommodate the relocation, increasing the at-grade separation of Freedom Tower and the Performing Arts Complex, shifting office space square footage within the Project Site, as defined below, specifying streetwall heights and setbacks, and changing certain pedestrian and vehicular circulation, parking, street direction, open space boundaries and street and sidewalk widths. Alternatives considered include allowing left turns out of the vehicular ramp onto Liberty Street westbound, locating the vehicular ramp on Route 9A between Cedar and Liberty Streets and locating the cultural/museum complex at the northeast corner of Liberty Street and Route 9A.

Located in Lower Manhattan, the Project Site includes both the World Trade Center (WTC) Site and the Southern Site. The WTC Site is bounded by Route 9A, Vesey, Church, and Liberty Streets. The Southern Site is immediately to the south of the WTC Site and comprises two adjacent city blocks, one bounded by Liberty, Washington, Albany, and Greenwich Streets, and the other bounded by Liberty Street, Route 9A, and Cedar and Washington Streets. The Southern Site includes those properties commonly known as 130 Liberty Street, 140 Liberty Street, and 155 Cedar Street. Also included in the Southern Site are subsurface portions of Liberty Street from the eastern side of Route 9A to the western side of Greenwich Street; Washington Street from the northern side of Cedar Street to the southern side of Liberty Street; and subsurface portions of Cedar Street from the eastern side of Route 9A to the eastern side of Washington Street.

An EA for the Proposed Refinements has been prepared by LMDC, as lead agency, in cooperation with HUD and the Port Authority. Based on this assessment, LMDC has determined that the Proposed Refinements will not, either individually or cumulatively, have a significant impact on the quality of the human environment or a significant adverse environmental impact not already analyzed and disclosed in the FGEIS for the Proposed Action. Therefore, a supplemental environmental impact statement will not be undertaken under NEPA or SEQRA. LMDC will not take any administrative action on the Proposed Refinements prior to the expiration of the comment period.

Questions may be directed to the individual named above under the heading FOR FURTHER INFORMATION CONTACT.

Dated: March 24, 2005.
William H. Eargle, Jr.,
Deputy Assistant Secretary for Operations.

[FR Doc. E5-1455 Filed 3-31-05; 8:45 am]

BILLING CODE 4210-29-P